NUCLEAR REGULATORY COMMISSION

[Docket No. 50-460]

Energy Northwest Nuclear Project No. 1

Order

Energy Northwest (formerly Washington Public Power Supply, permittee) is the current holder of Construction Permit No. CPPR-134, issued by the U.S. Nuclear Regulatory Commission (NRC) on December 23, 1975, for construction of Nuclear Project No. 1 (WNP-1). The facility is presently in a deferred construction status at the permittee's site at the U.S. Department of Energy's Hanford Reservation in Benton County, Washington, approximately eight miles north of Richland, Washington.

On April 9, 2001, the permittee submitted a request pursuant to section 50.55(b) of Title 10 of the Code of Federal Regulations (10 CFR Section 50.55(b)) that the completion date for WNP-1 be extended from June 1, 2001, to June 1, 2011. In addition, the permittee requested the NRC to update the permit to reflect an administrative change in the permit holder's name from the Washington Public Power Supply System to Energy Northwest. The permittee requested this extension for WNP-1 for the following reasons, as stated in its application:

Increased electrical load in the Pacific Northwest has underscored the need for a flexible range of power generation options and alternatives to meet the region's growing base-load power supply needs. Furthermore, in response to the energy crisis in the Western United States, some of our stakeholders have requested that we conduct a viability study on the completion of the facility. Until the viability study is completed and decisions on generating options to meet future load forecasts are finalized, maintaining WNP-1 as a deferred facility is consistent with our commitment to maintain potential generating resources.

Energy Northwest also stated that the extension request is consistent with Section A.2 of Generic Letter (GL) 87-15, “Policy Statement on Deferred Plants.” The NRC's Policy Statement on Deferred Plants addresses extension of construction permits for plants in a deferred status and states that the staff will consider such extensions in accordance with 10 CFR 50.55(b). Section 50.55(b) does not specify any limit on the length of an extension the staff may grant, but states that “[u]pon good cause shown the Commission will extend the completion date for a reasonable period of time.” The staff has concluded that the permitee's stated bases for the requested extension represent good cause, and are reasonable.

Pursuant to 10 CFR 51.32, the Commission has determined that extending the construction completion date will have no significant impact on the environment.

The NRC staff has prepared an environmental assessment and finding of no significant impact which was published in the Federal Register on January 30, 2002 (67 FR 4475).

For further details with respect to this action, see the application dated April 9, 2001, and the NRC staff's letter and safety evaluation of the request for extension of the construction permit, dated January 30, 2002. Documents may be examined, and/or copied for a fee, at the NRC's Public Document Room, located at One White Flint North, 11555 Rockville Pike (first floor), Rockville, Maryland, and are accessible electronically through the ADAMS public Electronic Reading Room link at the NRC Web site (http://www.nrc.gov).

It is hereby ordered that the latest completion date for Construction Permit No. CPPR-134 is extended from June 1, 2001, to June 1, 2011, and that the permit holder's name be changed from Washington Public Power Supply System to Energy Northwest.

Dated at Rockville, Maryland, this 30th day of January 2002.
For the Nuclear Regulatory Commission.
Jon R. Johnson,
Acting Director, Office of Nuclear Reactor Regulation.

[FR Doc. 02-3227 Filed 2-8-02; 8:45 am]

BILLING CODE 7590-01-P